DEPARTMENT OF ENERGY

Federal Energy Regulatory Commission

[Docket No. CP15-169-000]

Transcontinental Gas Pipe Line Company, LLC; Notice of Intent To Prepare a Supplement Environmental Assessment for the Amended Rock Springs Expansion Project and Request for Comments on Environmental Issues

The staff of the Federal Energy Regulatory Commission (FERC or Commission) will prepare a supplemental environmental assessment (EA) that will discuss the environmental impacts of the amendment to the Rock Springs Expansion Project (Project) involving construction and operation of facilities by Transcontinental Gas Pipe Line Company, LLC (Transco) in Lancaster County, Pennsylvania. The Commission will use this supplemental EA in its decision-making process to determine whether the amendment to the project is in the public convenience and necessity.

This notice announces the opening of the scoping process the Commission will use to gather input from the public and interested agencies on the project. Your comments should focus on the potential environmental effects, reasonable alternatives, and measures to avoid or lessen environmental impacts. Your input will help the Commission staff determine what issues they need to evaluate in the supplemental EA. Please note that the scoping period will close on May 20, 2015.

You may submit comments in written form or verbally. Further details on how to submit written comments are in the Public Participation section of this notice. If you sent comments on this project to the Commission before the opening of this docket on April 13, 2015 you will need to file those comments in Docket No. CP15-169-000 to ensure they are considered as part of this proceeding.

This notice is being sent to the Commission's current environmental mailing list and includes landowners affected by the amended Project. State and local government representatives should notify their constituents of this proposed project and encourage them to comment on their areas of concern.

If you are a landowner receiving this notice, a pipeline company representative may contact you about the acquisition of an easement to construct, operate, and maintain the planned facilities. The company would seek to negotiate a mutually acceptable agreement. However, if the Commission approves the project, that approval conveys with it the right of eminent domain. Therefore, if easement negotiations fail to produce an agreement, the pipeline company could initiate condemnation proceedings where compensation would be determined in accordance with state law.

Transco provided landowners with a fact sheet prepared by the FERC entitled “An Interstate Natural Gas Facility On My Land? What Do I Need To Know?” This fact sheet addresses a number of typically-asked questions, including the use of eminent domain and how to participate in the Commission's proceedings. It is also available for viewing on the FERC Web site (www.ferc.gov).

Summary of the Project and Proposed Route Modification

On March 19, 2015, FERC issued an Order Issuing Certificate (Order) to Transco authorizing the Rock Springs Expansion Project. The EA for the Project in Docket No. CP14-504-000 was issued on November 14, 2014. On March 19, 2015, Transco accepted the Order pursuant to section 157.20(a) of the Commission's Regulations. The Project is an expansion of Transco's existing pipeline system which will enable Transco to provide 192,000 dekatherms per day of incremental firm transportation capacity from Transco's Station 210 Zone 6 Pool in Mercer County, New Jersey to Old Dominion Electric Cooperative's approved Wildcat Point Generating Facility in Cecil County, Maryland.

In this amendment, Transco proposes to modify the previously authorized pipeline route in Lancaster County, Pennsylvania. The proposed alignment modification occurs from milepost (MP) 7.60 to MP 8.29 (a total of 0.69 mile). Transco is proposing to adjust the pipeline centerline alignment from the originally authorized property to the adjacent property to the east. The proposed minor route modification would not affect any new landowners, as the adjacent property owner owns other parcels on which the pipeline is sited. Additionally, the route modification would result in minor changes in workspace configurations on two other properties, including a reduction in permanent easement.

The general location map of the project facilities is shown in appendix 1.¹

¹ The appendices referenced in this notice will not appear in the Federal Register. Copies of the appendices were sent to all those receiving this notice in the mail and are available at www.ferc.gov using the link called “eLibrary” or from the Commission's Public Reference Room, 888 First Street NE., Washington, DC 20426, or call (202) 502-8371. For instructions on connecting to eLibrary, refer to the last page of this notice.

Land Requirements for Construction

No new workspace impacts would occur as a result of the proposed minor route modification. The minor route modification has been designed to result in no net gain of workspace required for Project construction.

The EA Process

The National Environmental Policy Act (NEPA) requires the Commission to take into account the environmental impacts that could result from an action whenever it considers the issuance of a Certificate of Public Convenience and Necessity. NEPA also requires us ² to discover and address concerns the public may have about proposals. This process is referred to as “scoping.” The main goal of the scoping process is to focus the analysis in the supplemental EA on the important environmental issues. By this notice, the Commission requests public comments on the scope of the issues to address in the supplemental EA. We will consider all filed comments during the preparation of the supplemental EA.

² “We,” “us,” and “our” refer to the environmental staff of the Commission's Office of Energy Projects.

In the supplemental EA, we will discuss impacts that could occur as a result of the construction and operation of the proposed project under these general headings:

• Geology and soils;

• land use;

• water resources, fisheries, and wetlands;

• cultural resources;

• vegetation and wildlife;

• air quality and noise;

• endangered and threatened species;

• public safety; and

• cumulative impacts.

We will also evaluate reasonable alternatives to the proposed route modification.

The supplemental EA will present our independent analysis of the issues. The EA will be available in the public record through eLibrary. Depending on the comments received during the scoping process, we may also publish and distribute the EA to the public for an allotted comment period. We will consider all comments on the EA before making our recommendations to the Commission. To ensure we have the opportunity to consider and address your comments, please carefully follow the instructions in the Public Participation section beginning on page 5.

With this notice, we are asking agencies with jurisdiction by law and/or special expertise with respect to the environmental issues related to this project to formally cooperate with us in the preparation of the supplemental EA.³ Agencies that would like to request cooperating agency status should follow the instructions for filing comments provided under the Public Participation section of this notice.

³ The Council on Environmental Quality regulations addressing cooperating agency responsibilities are at Title 40, Code of Federal Regulations, Part 1501.6.

Consultations Under Section 106 of the National Historic Preservation Act

In accordance with the Advisory Council on Historic Preservation's implementing regulations for section 106 of the National Historic Preservation Act, we are using this notice to initiate consultation with the applicable State Historic Preservation Office (SHPO), and to solicit their views and those of other government agencies, interested Indian tribes, and the public on the project's potential effects on historic properties.⁴ We will define the project-specific Area of Potential Effects (APE) in consultation with the SHPO as the project develops. On natural gas facility projects, the APE at a minimum encompasses all areas subject to ground disturbance (examples include construction right-of-way, contractor/pipe storage yards, compressor stations, and access roads). Our supplemental EA for this project will document our findings on the impacts on historic properties and summarize the status of consultations under section 106.

⁴ The Advisory Council on Historic Preservation's regulations are at Title 36, Code of Federal Regulations, Part 800. Those regulations define historic properties as any prehistoric or historic district, site, building, structure, or object included in or eligible for inclusion in the National Register of Historic Places.

Currently Identified Environmental Issues

The change in land use impacts includes reductions of 0.37 acre of forest land and 0.07 acre of agricultural land, and increases of 0.39 acre of open land and 0.04 acre of commercial/industrial land.

Public Participation

You can make a difference by providing us with your specific comments or concerns about the project. Your comments should focus on the potential environmental effects, reasonable alternatives, and measures to avoid or lessen environmental impacts. The more specific your comments, the more useful they will be. To ensure that your comments are timely and properly recorded, please send your comments so that the Commission receives them in Washington, DC on or before May 20, 2015.

For your convenience, there are three methods you can use to submit your comments to the Commission. In all instances, please reference the project docket number (CP15-169-000) with your submission. The Commission encourages electronic filing of comments and has expert staff available to assist you at (202) 502-8258 or efiling@ferc.gov.

(1) You can file your comments electronically using the eComment feature located on the Commission's Web site (www.ferc.gov) under the link to Documents and Filings. This is an easy method for interested persons to submit brief, text-only comments on a project;

(2) You can file your comments electronically using the eFiling feature located on the Commission's Web site (www.ferc.gov) under the link to Documents and Filings. With eFiling, you can provide comments in a variety of formats by attaching them as a file with your submission. New eFiling users must first create an account by clicking on “eRegister.” You must select the type of filing you are making. If you are filing a comment on a particular project, please select “Comment on a Filing”; or

(3) You can file a paper copy of your comments by mailing them to the following address: Kimberly D. Bose, Secretary, Federal Energy Regulatory Commission, 888 First Street NE., Room 1A, Washington, DC 20426.

Environmental Mailing List

The environmental mailing list includes landowners affected by the route modification, federal, state, and local government representatives and agencies; elected officials; environmental and public interest groups; Native American Tribes; other interested parties; and local libraries and newspapers. This list also includes all affected landowners (as defined in the Commission's regulations) who are potential right-of-way grantors, whose property may be used temporarily for project purposes, or who own homes within certain distances of aboveground facilities, and anyone who submits comments on the project.

If we publish and distribute the supplemental EA, copies will be sent to the environmental mailing list for public review and comment. If you would prefer to receive a paper copy of the document instead of the CD version or would like to remove your name from the mailing list, please return the attached Information Request (appendix 2).

Becoming an Intervenor

In addition to involvement in the supplemental EA scoping process, you may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor are in the User's Guide under the “e-filing” link on the Commission's Web site.

Additional Information

Additional information about the project is available from the Commission's Office of External Affairs, at (866) 208-FERC, or on the FERC Web site at www.ferc.gov using the “eLibrary” link. Click on the eLibrary link, click on “General Search” and enter the docket number, excluding the last three digits in the Docket Number field (i.e., CP15-169). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Finally, public meetings or site visits will be posted on the Commission's calendar located at www.ferc.gov/EventCalendar/EventsList.aspx along with other related information.

Dated: April 20, 2015.
Nathaniel J. Davis, Sr.,
Deputy Secretary.

[FR Doc. 2015-09689 Filed 4-24-15; 8:45 am]

BILLING CODE 6717-01-P